FEDERAL ACCOUNTING STANDARDS ADVISORY BOARD

Notice of Accounting and Auditing Policy Committee Meeting on September 16, 2005

Board Action: Pursuant to 31 U.S.C. 3511(d), the Federal Advisory Committee Act (Pub. L. 92-463), as amended, and the FASAB Rules Of Procedure, as amended in April, 2004, notice is hereby given that the Accounting and Auditing Policy Committee (AAPC), a permanent committee established by the Federal Accounting Standards Advisory Board (FASAB) will meet on September 16, 2005 at 10 am in room 6N30 of the US Government Accountability Office (GAO) Building (441 G Street NW).

The purpose of the meeting is to discuss issues related to:

—Heritage Assets and Stewardship Land Implementation,

—Inter-Entity Cost Implementation, and

—Administrative Matters (Closed Session)

A more detailed agenda can be obtained from the AAPC website (http://fasab.gov/aapc/aapc.html).

Any interested person may attend the meeting as an observer. Board discussion and reviews are open to the public. GAO Building security requires advance notice of your attendance. Please notify FASAB of your planned attendance by calling 202-512-7350 at least one day prior to the respective meeting.

For Further Information Contact: Wendy M. Comes, Executive Director, 441 G St., NW., Mail Stop 6K17V, Washington, DC 20548, or call (202) 512-7350.

Authority: Federal Advisory Committee Act. Pub. L. No 92-463.

Dated: September 9, 2005.
Charles W. Jackson,
Federal Register Liaison Officer.

[FR Doc. 05-18305 Filed 9-14-05; 8:45 am]

BILLING CODE 1610-01-M